DEPARTMENT OF TRANSPORTATION

Federal Aviation Administration

Civil Supersonic Aircraft Panel Discussion

Correction

In notice document 2011-12742 appearing on page 30231 in the issue of Tuesday, May 24, 2011, make the following correction:

Beginning in the second line from the bottom of the first column and continuing to the second line in the second column, the Web site address should read as follows: https://spreadsheets.google.com/spreadsheet/viewform?formkey=dEFEdlRnYzBiaHZtTUozTHVtbkF4d0E6MQ.

[FR Doc. C1-2011-12742 Filed 6-9-11; 8:45 am]

BILLING CODE 1505-01-D